SMALL BUSINESS ADMINISTRATION

Public Federal Regulatory Enforcement Fairness Hearing; Region VIII Regulatory Fairness Board

The U.S. Small Business Administration Region VIII Regulatory Fairness Board and the SBA Office of the National Ombudsman will hold a public hearing on Tuesday, June 28, 2005, at 8:30 a.m. at the North Dakota State University (NDSU), Research I—Research & Technology Park, Inc., 1735 NDSU Research Park Drive, Fargo, ND 58102, phone (701) 231-6698, to receive comments and testimony from small business owners, small government entities, and small non-profit organizations concerning regulatory enforcement and compliance actions taken by federal agencies.

Anyone wishing to attend or to make a presentation must contact Nadine Phillips in writing or by fax, in order to be put on the agenda. Nadine Phillips, Administrative Officer, SBA North Dakota District Office, 657 2nd Avenue North, Room 218, Fargo, ND 58102, phone (701) 239-5131 ext. 208, fax (701) 239-5645, e-mail: Nadine.phillips@sba.gov.

For more information, see our Web site at http://www.sba.gov/ombudsman.

Matthew K. Becker,
Committee Management Officer.

[FR Doc. 05-12165 Filed 6-20-05; 8:45 am]

BILLING CODE 8025-01-P